DEPARTMENT OF ENERGY

Federal Energy Regulatory Commission

[Docket No. CP05-357-001]

Cheniere Creole Trail Pipeline Company; Notice of Amendment

July 8, 2005.

Take notice that on July 1, 2005, Cheniere Creole Trail Pipeline Company (Cheniere Creole Trail), 717 Texas Avenue, Suite 3100, Houston Texas 77002, filed in Docket No. CP05-357-001 to amend its pending application filed on May 23, 2005, pursuant to section 7(c) of the Natural Gas Act (NGA) to construct and operate certain pipeline facilities, all as more fully set forth in the application which is on file with the Commission and open to public inspection. The filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Cheniere Creole Trail's amendment reflects a shortening of the length of pipeline to be constructed for the project. Specifically, Cheniere Creole Trail withdraws its proposal to construct Segment 1 of its project. Segment 1 consists of 46.9 miles of single 42-inch diameter pipeline, in Cameron Parish, Louisiana, extending from the previously authorized Sabine Pass liquefied natural gas (LNG) terminal to a juncture with Cheniere Creole Trail's remaining proposed pipeline facilities. The remaining proposed pipeline facilities will be connected to Creole Trail LNG, L.P.'s proposed LNG terminal for which authorization was requested in a companion application filed on May 23, 2005, in Docket No. CP05-360-000. The amendment also reflects a change in the maximum capacity of the proposed pipeline from 5.9 Bcf per day to 3.3 Bcf per day.

Any questions regarding these applications should be directed to Patricia Outtrim, Cheniere LNG, Inc., 717 Texas Avenue, Suite 3100, Houston, Texas 77002, (713) 659-1361 or Lisa Tonery, King & Spalding LLP, 1185 Avenue of the Americas, New York, NY 10036, (212) 556-2307.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper; see, 18 CFR 385.2001(a)(1)(iii) and the instructions on the Commission's web site under the “e-Filing” link. The Commission strongly encourages electronic filings.

Comment Date: July 29, 2005.

Magalie R. Salas,
Secretary.

[FR Doc. E5-3733 Filed 7-13-05; 8:45 am]

BILLING CODE 6717-01-P